DEPARTMENT OF HEALTH AND HUMAN SERVICES

National Institutes of Health

Notice of Establishment

Pursuant to the Federal Advisory Committee Act, as amended (5 U.S.C. Appendix 2), the Director, National Institutes of Health (NIH), announces the establishment of the Interagency Breast Cancer and Environmental Research Coordinating Committee (Committee).

The Committee shall coordinate all efforts within the Department of Health and Human Services to share and coordinate information on existing research activities, and make recommendations to the Secretary DHHS, the National Institutes of Health and other Federal agencies regarding how to improve existing research programs.

The Committee's primary mission is to facilitate the efficient and effective exchange of information on breast cancer research activities among the member agencies, and to coordinate solicitation of proposals for collaborative, multidisciplinary research, including proposals to evaluate environmental and genomic factors that may be related to the etiology of breast cancer.

Duration of this committee is two years from the date the Charter is filed.

Francis S. Collins,
Director, National Institutes of Health.

[FR Doc. E9-23974 Filed 10-5-09; 8:45 am]

BILLING CODE 4140-01-P